INTERNATIONAL TRADE COMMISSION

[Investigation No. 731-TA-344 (Fourth Review)]

Tapered Roller Bearings From China

Determination

On the basis of the record ¹ developed in the subject five-year review, the United States International Trade Commission (“Commission”) determines, pursuant to the Tariff Act of 1930 (“the Act”), that revocation of the antidumping duty order on tapered roller bearings from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on July 3, 2017 (82 FR 30898) and determined on October 6, 2017 that it would conduct a full review (82 FR 48527, October 18, 2017). Notice of the scheduling of the Commission's review and of a public hearing to be held in connection therewith was given by posting copies of the notice in the Office of the Secretary, U.S. International Trade Commission, Washington, DC, and by publishing the notice in the Federal Register on February 26, 2018 (83 FR 8297). The hearing was held in Washington, DC, on July 31, 2018, and all persons who requested the opportunity were permitted to appear in person or by counsel.

The Commission made this determination pursuant to section 751(c) of the Act (19 U.S.C. 1675(c)). It completed and filed its determination in this review on September 24, 2018. The views of the Commission are contained in USITC Publication 4824 (September 2018), entitled Tapered Roller Bearings from China: Investigation No. 731-TA-344 (Fourth Review).

By order of the Commission.
Issued: September 24, 2018.
Lisa Barton,
Secretary to the Commission.

[FR Doc. 2018-21095 Filed 9-27-18; 8:45 am]

BILLING CODE 7020-02-P